DEPARTMENT OF THE INTERIOR

[FWS-R4-ES-2024-N052; FVHC98220410150-XXX-FF04H00000]

Deepwater Horizon Natural Resource Damage Assessment Alabama Trustee Implementation Group Final Restoration Plan IV and Environmental Assessment: Wetlands, Coastal, and Nearshore Habitats; Nutrient Reduction; Birds; Oysters; and Provide and Enhance Recreational Opportunities and Finding of No Significant Impact

AGENCY: Department of the Interior.

ACTION: Notice of availability.

SUMMARY: The natural resource trustee agencies for the Alabama Trustee Implementation Group (Alabama TIG) have prepared the “Final Restoration Plan IV and Environmental Assessment: Wetlands, Coastal, and Nearshore Habitats; Nutrient Reduction; Birds, Oysters; and Provide and Enhance Recreational Opportunities” (Final RP/EA) and a Finding of No Significant Impact (FONSI). The Final RP/EA selects projects to partially restore resources injured in the Deepwater Horizon (DWH) oil spill. The Final RP/EA evaluates a reasonable range of 11 project alternatives under the Oil Pollution Act (OPA), including criteria set forth in the OPA natural resource damage assessment (NRDA) regulations, and the National Environmental Policy Act (NEPA) and its implementing regulations. A No Action alternative is also analyzed for each restoration type. The total cost to implement the Alabama TIG's seven preferred alternatives is approximately $24,000,000.

ADDRESSES: Obtaining Documents: You may download the Final RP/EA and FONSI at https://www.gulfspillrestoration.noaa.gov/restoration-areas/alabama. Alternatively, you may request a USB flash drive containing the Final RP/EA and FONSI (see FOR FURTHER INFORMATION CONTACT).

FOR FURTHER INFORMATION CONTACT: Nanciann Regalado, at nanciann_regalado@fws.gov or 678-296-6805. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Introduction

On April 20, 2010, the mobile offshore drilling unit Deepwater Horizon, which was drilling a well for BP Exploration and Production, Inc. (BP), experienced a significant explosion, fire, and subsequent sinking in the Gulf of Mexico, resulting in the release of millions of barrels of oil and other discharges into the Gulf. Under the authority of the Oil Pollution Act 1990 (OPA; 33 U.S.C. 2701 et seq.), designated Federal and State Trustees, acting on behalf of the public, assessed the injuries to natural resources and prepared the “Deepwater Horizon Oil Spill Final Programmatic Damage Assessment and Restoration Plan and Final Programmatic Environmental Impact Statement” (Final PDARP/PEIS), and subsequent Record of Decision (ROD), which sets forth the governance structure and process for DWH restoration planning under the OPA's natural resource damage assessment (NRDA). On April 4, 2016, the United States District Court for the Eastern District of Louisiana entered a Consent Decree resolving civil claims by the Trustees against BP.

The Alabama TIG is composed of the Alabama Department of Conservation and Natural Resources, the Geological Survey of Alabama, the Environmental Protection Agency, the U.S. Department of the Interior, the National Oceanic and Atmospheric Administration, and the U.S. Department of Agriculture. The Alabama TIG selects and implements restoration projects under the TIG's management authority in accordance with the Consent Decree. The Final PDARP/PEIS, ROD, Consent Decree, and information on the DWH Trustees can be found at https://www.gulfspillrestoration.noaa.gov/restoration-planning/gulf-plan.

Background

On April 19, 2024, the Alabama TIG announced on its website that it had reviewed projects analyzed in previous restoration plans; identified projects that could provide restoration benefits to the Alabama restoration area if selected, continued, or expanded upon; and had initiated drafting its fourth restoration plan and environmental assessment. The RP/EA includes a reasonable range of 11 restoration alternatives (projects) for the 5 restoration types indicated in the plan's title. On June 24, 2024, the Alabama TIG released the Draft RP/EA IV for a 30-day public review period (89 FR 52498). The Alabama TIG accepted public comments through July 24, 2024. To facilitate public understanding of the document, the Alabama TIG held a webinar on July 10, 2024, during which public comments were solicited. After the public review period closed, the Alabama TIG reviewed the comments received, prepared responses to those comments, finalized the plan, and prepared a FONSI.

Overview of the Alabama TIG's Final RP/EA

The Final RP/EA and FONSI are being released in accordance with OPA, its implementing NRDA regulations found in the Code of Federal Regulations (CFR) at 15 CFR part 990, the National Environmental Policy Act (42 U.S.C. 4321 et seq.) and its implementing regulations found at 40 CFR parts 1500-1508, the Final PDARP/PEIS, and the Consent Decree. The Final RP/EA provides OPA and NEPA analyses for a reasonable range of 11 alternatives listed below under the restoration types from which funds will be allocated. One project, Lower Perdido Islands Habitat Restoration—Phase II, will be funded through two restoration type allocations: the Wetlands, Coastal, and Nearshore Habitat restoration type and the Birds restoration type. Two projects, the Lower Perdido Islands Habitat Restoration—Phase II project and the Walker Island Expansion project, were considered under both the Wetlands, Coastal, and Nearshore Habitat restoration type and the Birds restoration type and are shown under both restoration types below. The seven alternatives selected for implementation are denoted with an asterisk (*).

Wetlands, Coastal, and Nearshore Habitats Restoration Type:

• Lower Perdido Islands Habitat Restoration Phase II*

• Walker Island Expansion

Nutrient Reduction Restoration Type:

• Puppy Creek—Juniper Creek—Big Creek Nutrient Reduction*

• Bayou la Batre Nutrient Reduction

Birds Restoration Type:

• Stewardship of Coastal Alabama Beach Nesting Bird Habitat*

• Lower Perdido Islands Habitat Restoration—Phase II*

• Walker Island Expansion

Oysters Restoration Type:

• Improving Resilience for Oysters by Linking Brood Reefs and Sink Reefs (Large-scale)—Component 4—Mid-lower Mobile Bay, AL*

• Oyster Grow-Out and Restoration Reef Replacement—5-year continuation*

• Oyster Grow-Out and Restoration Reef Replacement—3-year continuation

Provide and Enhance Recreational Opportunities Restoration Type:

• Bayfront Park Restoration and Improvement Phases Ia and Ib*

• Laguna Cove Little Lagoon Natural Resource Protection—Large Scale Amenities

• Laguna Cove Little Lagoon Natural Resource Protection—Small Scale Amenities*

The total estimated cost to implement the seven selected alternatives is approximately $24,000,000. Restoration planning in the Alabama Restoration Area will continue.

Administrative Record

The documents comprising the Administrative Record for the Final RP/EA can be viewed electronically at https://www.doi.gov/deepwaterhorizon/adminrecord under folder 6.5.3.2.5.

Authority

The authority for this action is the Oil Pollution Act of 1990 (33 U.S.C. 2701 et seq.), its implementing Natural Resource Damage Assessment regulations found at 15 CFR part 990, and the National Environmental Policy Act of 1969 (42 U.S.C. 4321 et seq.) and its implementing regulations found at 40 CFR parts 1500-1508.

Mary Josie Blanchard,
Department of the Interior, Director of Gulf of Mexico Restoration.

[FR Doc. 2024-27302 Filed 11-20-24; 8:45 am]

BILLING CODE 4333-15-P